DEPARTMENT OF ENERGY

Federal Energy Regulatory Commission

[Docket No. OR07-18-000]

American West Airlines, Inc. and US Airway, Inc., Chevron Products Company, Continental Airlines, Inc., Northwest Airlines, Inc., Southwest Airlines Co., Valero Marketing and Supply Company; Complainants v. Calnev Pipe Line, L.L.C.; Respondent; Notice of Complaint

August 21, 2007.

Take notice that on August 20, 2007, pursuant to Rule 206 of the Rules and Practice and Procedure, 18 CFR 385.206; the Procedural Rules Applicable to Oil Pipeline Proceedings, 18 CFR 343; sections 1(4), 1(5), 8, 9, 13, 15, and 16 of the Interstate Commerce Act , 49 U.S.C. App. sections 1(4), 1(5), 8, 9, 13, 15, and 16 (2004); and section 1803 of the Energy Policy Act of 1992 (EPAct) (Pub. L. 102-486, 106 Stat. 2772), American West Airlines, Inc. and U.S. Airway, Inc., Chevron Products Company, Continental Airlines, Inc., Northwest Airlines, Inc., Southwest Airlines Co. and Valero Marketing and Supply Company, (Complainants), jointly and individually, filed a formal complaint against Calnev Pipe Line, L.L.C. (Respondent) alleging that the respondents rates for transportation and terminalling are just and unreasonable and therefore request the Federal Energy Regulatory Commission to investigate the respondent's rates; set the proceedings for an evidentiary hearing to determine just and reasonable rates for the respondent; require the respondent to pay reparations starting two years before the date of the complaints for all rates; and award such other relief as is necessary and appropriate under the Interstate Commerce Act.

The Complainants state that copies of the complaint have been served on the respondent.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on September 10, 2007.

Kimberly D. Bose,
Secretary.

[FR Doc. E7-16949 Filed 8-27-07; 8:45 am]

BILLING CODE 6717-01-P